DEPARTMENT OF THE INTERIOR

Fish and Wildlife Service

Final Revised Comprehensive Conservation Plan and Environmental Impact Statement for Kodiak National Wildlife Refuge, Alaska

AGENCY: U.S. Fish and Wildlife Service, Department of the Interior.

ACTION: Notice of availability.

SUMMARY: The U.S. Fish and Wildlife Service (Service) announces that a Final Revised Comprehensive Conservation Plan (Conservation Plan) and Environmental Impact Statement for Kodiak National Wildlife Refuge is available for final review and comment before a Record of Decision (ROD) is signed. This Conservation Plan was prepared pursuant to the Alaska National Interest Lands Conservation Act of 1980, the National Wildlife Refuge System Administration Act of 1966, as amended by the National Wildlife Refuge System Improvement Act of 1997, and the National Environmental Policy Act of 1969 as amended. It describes how the Service intends to manage Kodiak NWR over the next 15 years.

DATES: Please submit comments on the Final Conservation Plan and Environmental Impact Statement on or before 30 days from the date of publication of this Notice. A ROD will then be signed, and a stand-alone Conservation Plan will be published.

ADDRESSES: The Conservation Plan is available on compact diskette or over the Internet. You may obtain a copy of the CD by writing: Mikel Haase, Planning Team Leader, U.S. Fish and Wildlife Service, 1011 East Tudor Road, MS 231, Anchorage, Alaska, 99503-6199. You may access or download the Conservation Plan at: www.r7.fws.gov/nwr/planning/plans.htm. Comments may be sent to the above address or e-mailed to fws_kodiak_planning@fws.gov.

Copies of the Conservation Plan may be viewed at the Kodiak NWR office, 1390 Buskin River Road, Kodiak, Alaska; local libraries, and the U.S. Fish and Wildlife Service Regional Office in Anchorage, Alaska.

FOR FURTHER INFORMATION CONTACT: Mikel Haase, (907) 786-3402.

SUPPLEMENTARY INFORMATION: The Alaska National Interest Lands Conservation Act as amended (ANILCA; 16 U.S.C. 140hh-3233, 434 U.S.C. 1602-1784) requires a conservation plan for all national wildlife refuges in Alaska. The Conservation Plan for Kodiak NWR was developed consistent with § 304(g) of ANILCA and the National Wildlife Refuge System Administration Act of 1966 as amended by the National Wildlife Refuge System Improvement Act of 1997 (16 U.S.C. 668dd-668ee). Conservation plans provide refuge managers with a 15-year management strategy for achieving refuge purposes and contributing toward the mission of the National Wildlife Refuge System, consistent with sound principles of fish and wildlife science, conservation, legal mandates, and Service policies. In addition to outlining broad management direction on conserving fish and wildlife and their habitats, conservation plans identify fish and wildlife-dependent recreational opportunities available to the public, including opportunities for hunting, fishing, wildlife observation and photography, and environmental education and interpretation. Conservation plans are updated in accordance with planning direction in § 304(g) of ANILCA, the National Environmental Policy Act of 1969 (42 U.S.C. 4321-4370), and Service planning policy.

Background: On August 19, 1941, President Franklin D. Roosevelt established Kodiak NWR by Executive Order 8857 “* * * for the purpose of protecting the natural feeding and breeding ranges of the brown bears and other wildlife on Uganik and Kodiak Islands.” The Alaska Native Claims Settlement Act of 1971 allowed the conveyance of about 310,000 acres of Refuge land to Native village corporations.

On December 2, 1980, ANILCA added about 50,000 acres on Afognak and Ban Islands to Kodiak NWR and stated that the Kodiak NWR purposes include: to conserve fish and wildlife populations and habitats in their natural diversity; to fulfill international treaty obligations of the United States with respect to fish and wildlife and their habitats; to provide the opportunity for continued subsistence use by local residents; and to ensure water quality and necessary water quantity within the Refuge.

Since 1994, the Service has purchased fee title to nearly 174,000 acres, and conservation or nondevelopment easements have been acquired on more than 100,000 acres within the Refuge boundaries. Today, Refuge boundaries encompass nearly 1.8 million acres, of which nearly 1.64 million acres (92 percent) are under Service jurisdiction.

The original Kodiak Conservation Plan was completed in 1987 following direction in Section 304(g) of ANILCA. The 1997 Refuge Improvement Act includes additional direction for conservation planning throughout the Refuge System. This direction has been incorporated into national planning policy for the Refuge System, including refuges in Alaska. The Revised Conservation Plan and Environmental Impact Statement (EIS) meets the requirements of both ANILCA and the Refuge Improvement Act. It provides broad general direction for managing Kodiak NWR for the next 15 years and contains the vision, goals, and objectives of the Refuge. Except for alternative ways of addressing the issues, this plan substantially follows the direction of the original plan. Traditional means of access and uses of the Refuge would be maintained under all alternatives.

Issues raised during scoping and addressed in the Conservation Plan are (1) how to manage public use, given limited access and projected growth in demand, to continue providing opportunities for appropriate and quality use while preventing significant impacts to Refuge resources; and (2) what types of bear viewing opportunities should be available on the Refuge and how should these opportunities be managed while protecting bears and their habitats.

The EIS evaluates four alternatives for management of Kodiak NWR, primarily focusing on four areas: (1) Protection of bear concentration areas; (2) management of public use cabins; (3) management of camping areas; and (4) management of O'Malley River. These alternatives follow the same general management direction but provide different ways of addressing the issues.

Alternative A (Current Management): Management of the Refuge would continue to follow the 1987 conservation plan and record of decision as modified by subsequent step-down plans, including fisheries and public use management plans. Private and commercial uses of the Refuge would continue at current levels. Refuge management would continue to reflect existing laws, executive orders, regulations, and policies governing Service administration and operation of the National Wildlife Refuge System. Regulations would be adopted to seasonally limit public use (only commercial users are currently restricted) of nine bear concentration areas; to close two bear denning areas to snowmachine use; and to restrict camping near public use cabins and administrative facilities. Seven existing public use cabins would be maintained, two additional cabins could be constructed, and cabins on newly acquired lands could be managed for public use if located on appropriate sites. Impacts at heavily used camping areas would be managed by restricting use through regulations. The seasonal closure to all users at O'Malley River would continue; the site would not be open to bear viewing. Refuge lands would continue to be managed under Moderate (44,627 acres) and Minimal (1,578,700 acres) management categories, with Special River Management as an option for rivers receiving higher levels of public use.

Alternative B: Much of the general management direction in Alternative A would continue. Goals and objectives for increasing our knowledge of wildlife and habitat needs and relationships would be established. Public use monitoring would facilitate wildlife-dependent recreation, subsistence, and other traditional uses. Regulations proposed in Alternative A would not be promulgated; voluntary guidelines for public use of bear concentration areas would be developed. These guidelines would replace current use restrictions on commercial users. The number of public use cabins would be allowed to expand as demand increases, either by constructing new cabins or by managing cabins on newly acquired lands for public use. Food storage containers, latrines, temporary electric fences, and other minor improvements could be provided if needed at popular camping areas to reduce impacts. The O'Malley River closure would be modified to allow a guide to operate a formal bear viewing program under a refuge special use permit. The permit would be awarded competitively. Refuge lands would continue to be managed in Moderate and Minimal management categories as in Alternative A. The Special River Management category would be eliminated.

Alternative C: Much of the general management direction in Alternative A would continue, although some specific directions and actions occurring under current management would be altered or not pursued in this alternative. As with Alternative B, goals and objectives for increasing our knowledge of wildlife and habitat needs and relationships would be established. Public use monitoring would facilitate wildlife-dependent recreation, subsistence, and other traditional uses. Voluntary guidelines for public use of bear concentration areas would be developed. These guidelines would replace use restrictions on commercial users. Seasonal closure or day-use-only restrictions could be proposed for some bear concentration areas, based on on-going evaluation of the effectiveness of voluntary use guidelines in these areas. Two bear denning areas would be closed to snowmachine use by regulation. The public use cabin program would be phased out over time. Impacts at heavily used camping areas would be managed by restricting use through regulations. Regulations would be adopted to restrict camping near public use cabins and administrative facilities. The O'Malley River closure would be modified to allow the Service, in cooperation with the Alaska Department of Fish and Game, to operate a formal bear viewing program. Bear viewing permits would be awarded to individuals by lottery. The Moderate Management category would be reduced by 11,192 acres; the acreage in Minimal Management would increase by an equivalent amount. The Special River Management category would be eliminated.

Alternative D (Preferred Alternative): Much of the general management direction in Alternative A would continue, although some specific directions and actions occurring under current management would be altered or not pursued in this alternative. As in Alternatives B and C, goals and objectives for increasing our knowledge of wildlife and habitat needs and relationships would be established. Public use monitoring would facilitate wildlife-dependent recreation, subsistence, and other traditional uses. Voluntary guidelines for public use of bear concentration areas would be developed. These guidelines would replace use restrictions on commercial users. Day-use-only restrictions could be proposed for some bear-concentration areas based on on-going evaluation of the effectiveness of voluntary use guidelines in these areas. One bear denning area would be closed to snowmachine use by regulation. Seven public use cabins would be maintained, two additional cabins could be constructed, and cabins on newly acquired land could be managed for public use if located on appropriate sites. Regulations would be adopted to restrict camping near public use cabins and administrative facilities. Food-storage containers, latrines, temporary electric fences, and other minor improvements could be provided if needed at popular camping areas to reduce impacts. The O'Malley River closure would be modified to allow a formal bear viewing program combining agency-supervised use (allocated to the public by lottery) with guided use (offered to the public by qualified guides selected through a competitive process and operating under a refuge special use permit). The Moderate Management category would be reduced by 12,579 acres; the acreage in Minimal Management would increase by an equivalent amount. The Special River Management category would be eliminated.

Dated: September 8, 2006.
Thomas O. Melius,
Regional Director, U.S. Fish & Wildlife Service, Anchorage, Alaska.

[FR Doc. E6-16044 Filed 9-28-06; 8:45 am]

BILLING CODE 4310-55-P